DEPARTMENT OF TRANSPORTATION

Coast Guard

[USCG-2000-7205]

Management of High-Speed Commercial Vessel Traffic

AGENCY: Coast Guard, DOT.

ACTION: Notice of public meeting and request for comments.

SUMMARY: The Coast Guard is holding a public meeting to solicit comments on the impact of high-speed commercial vessels, both ferries and cargo vessels, on the users of the navigable waters of the United States. The growth of fast ferries in some metropolitan areas is increasing because these ferries appear to be viable options to highway commuting. Likewise, the logistical preference for “just in time” supply increases the likelihood that operation of fast cargo vessels will grow. By their speed and potential numbers, high-speed commercial vessels introduce another dimension into the conventional mix of slower commercial vessels, fishing vessels, and recreational vessels.

Some mariners already believe the waterways to be too congested with existing vessels. The Coast Guard hopes to receive input from all stakeholders on this issue so it can determine if there is a need for regulatory and other policy action that will enhance waterways safety for all vessels. It is particularly interested in which options should be dealt with locally, and which have regional or national implications. It will consider all comments received from this meeting and those submitted to the docket to formulate policy on the management of national waterways.

DATES: The public meeting is scheduled for Tuesday, May 2, 2000, from 8:30 a.m. to 4 p.m.; but will conclude before 4 p.m. if we finish early. Comments and related material must reach the Docket Management Facility on or before July 2, 2000.

ADDRESSES: The public meeting will take place at the Executive Inn, Bayside Room, 1755 Embarcadero, Oakland, CA.

To make sure your comments and related materials enter the docket just once, please submit them by just one of the following means:

(1) By mail to the Docket Management Facility [USCG-2000-7205], U.S. Department of Transportation, room PL-401, 400 Seventh Street SW., Washington, DC 20590-0001.

(2) By delivery to room PL-401 on the Plaza level of the Nassif Building, 400 Seventh Street SW., Washington, DC, between 9 a.m. and 5 p.m., Monday through Friday, except Federal holidays. The telephone number is 202-366-9329.

(3) By fax to the Docket Management Facility at 202-493-2251.

(4) Electronically through the Web Site for the Docket Management System at http://dms.dot.gov.

The Docket Management Facility maintains the public docket for this notice. Comments and material received from the public will become parts of this docket and will be available for inspection or copying at room PL-401 on the Plaza level of the Nassif Building, 400 Seventh Street SW., Washington, DC, between 9 a.m. and 5 p.m., Monday through Friday, except Federal holidays. You may also access the public docket on the Internet at http://dms.dot.gov.

FOR FURTHER INFORMATION CONTACT: For questions on this public meeting, contact Lieutenant Commander George H. Burns III, Office of Waterways Management Safety and Security (G-MWP-2), Coast Guard, telephone 202-267-0550, e-mail GBurns@comdt.uscg.mil. We request that those attending the meeting contact LCDR Burns to ensure that adequate space is available. For questions on viewing or submitting material to the docket, call Dorothy Walker, Chief, Dockets, Department of Transportation, phone 202-366-9329.

SUPPLEMENTARY INFORMATION:

Request for Comments

We encourage your participation by attending the meeting or by submitting comments and related material on this subject or in response to the questions in this notice. If you submit written comments, please include your name and address, and identify this notice [USCG-2000-7205] and the reason for each comment. You may submit your comments and material by mail, delivery, fax, or electronic means to the Docket Management Facility at the address under ADDRESSES; but please submit your comments and material by only one means. Please submit all comments and attachments in an unbound format, no larger than 8½ by 11 inches, suitable for copying and electronic filing to the Facility at the address under ADDRESSES. If you want acknowledgement of receipt of your comments, please enclose a stamped, self-addressed postcard or envelope. We will consider all comments and material received whether submitted in writing to the docket or presented during the meeting.

Background and Purpose

The number of users competing for space on navigable waterways of the U.S. has increased. Commercial vessels have grown in size and number of transits; the inshore fishing fleet continues to be strong; and confidence in our economy has prompted more people to buy recreational craft. Operations of high-speed commercial vessels are also gaining in popularity nationwide. By all accounts, the market in the U.S. for fast ferries is active and growing. San Francisco Bay, Seattle, New York, Boston, and Washington, D.C., all have growing or planned operations of such ferries. The use of these ferries, especially in the nation's coastal metropolitan areas, is likely to be the next attempted solution for traffic gridlock shore-side. Further, fast cargo vessels are under construction for intra-port, coastal, and transoceanic routes.

Detailed Coast Guard policy to address issues of waterway management associated with high-speed commercial vessels is in its formative stages. The Coast Guard wants to work with our partners in industry, our advisory committees, and other stakeholders in the use of waterways to frame our policy. High-speed commercial vessels will pose great challenges, but the Coast Guard views the development and financial success of these vessels as a genuine benefit of new technology. Operation of these vessels may enhance the quality of life for the general public, as well as ensure the continued development of the nation's maritime transportation system.

Obvious issues of safety, waterway capacity, and congestion will need to be properly addressed. In addition to policy made at the national level, we expect the active participation by local Harbor Safety Committees in the achievement of appropriate management controls for risks due to operation of high-speed commercial vessels. Coast Guard field units will work closely with local industry and other waterway users to deal effectively with these vessels. In general, well-trained, -equipped and -crewed vessels, whose operators engage in a participatory partnership with the Coast Guard and other waterway users, may benefit from less governmental supervision. We envision local Harbor Safety Committees as ideal linchpins in the coordination of national and local approaches to managing risks due to operation of these vessels.

Questions

1. What are the most practical, immediate navigational and other operational challenges faced by operators of high-speed commercial vessels? What measures (public, private, local, national) would have the most impact on meeting those challenges?

2. What are the likely impacts of wakes of high-speed commercial vessels?

3. How many high-speed commercial vessels are passenger ferries that need to operate on reliable schedules? How does reduced visibility, such as fog, affect them?

4. Taking account of your vessel's characteristics, what do you, as an operator of a high-speed commercial vessel, believe to be a safe speed relative to stopping-distance in clear or restricted visibility, or during darkness?

5. Has the operation of high-speed commercial vessels improved the competitiveness or the financial well-being of your company?

6. What is your projection for growth in the number of high-speed commercial vessels where your vessel operates?

7. While operating a conventional commercial vessel, have you experienced any navigational problems when encountering high-speed commercial vessels? What problems?

8. What are the most critical issues for recreational boating raised by high-speed commercial vessels? Have you, as a recreational boater, encountered any navigational problems when encountering such vessels?

9. Would you change any Inland Rules of the Road to account for the operation of high-speed commercial vessels? For example, would you change the Rules on steering and sailing or those on lights or shapes? Would a distinctive light or system of lights be helpful? Which of these would be best?

10. Is there a need for special policies or rules on waterway management for high-speed commercial vessels? If so, which should the policies or rules be—local, regional, or national?

11. Does the safe operation of high-speed commercial vessels call for consistency of treatment at the regional or national level? If so, which issues of waterway management in particular call for it?

12. Is there a role for local coordinating bodies (such as Harbor Safety Committees) of the marine transportation system in developing policy or in managing waterways for the operation of high-speed commercial vessels? If so, what role do you envision?

13. What operational measures would enhance the safety of high-speed commercial vessels, while facilitating their use? These measures could entail—

a. Fewer restrictions rather than more;

b. Voluntary or mandatory traffic lanes;

c. Controls based on traffic load at certain periods of the day;

d. Controls based on port-specific traffic conditions or patterns;

e. Slow-down zones for high-speed cargo vessels entering port from sea; or

f. Participation in Vessel Traffic Management.

Information on Services for Individuals with Disabilities

For information on facilities or services for people with disabilities, or to request special assistance at the meeting, contact Lieutenant Commander George H. Burns III, Office of Waterways Management Safety and Security (G-MWP-2), Coast Guard, telephone 202-267-0550, e-mail GBurns@comdt.uscg.mil as soon as possible.

Dated: April 7, 2000.
Joseph J. Angelo,
Director of Standard, Marine Safety and Environmental Protection.

[FR Doc. 00-9116 Filed 4-7-00; 4:16 pm]

BILLING CODE 4910-15-U